DEPARTMENT OF AGRICULTURE

Forest Service

Humboldt-Toiyabe National Forest; Nevada; Humboldt-Toiyabe Integrated Invasive Plant Treatment Project

AGENCY: Forest Service, USDA.

ACTION: Notice of intent to prepare an Environmental Impact Statement.

SUMMARY: The Humboldt-Toiyabe National Forest is preparing an Environmental Impact Statement (EIS) to evaluate the effects of controlling and eradicating non-native invasive plants and restoring native vegetation on national forest lands in Nevada. The EIS will analyze actions to be implemented on known infested areas, as well as on infested areas that may be discovered over the next 15 years using a variety of tools, methods, and products.

DATES: Comments concerning the scope of the analysis must be received in writing by April 16, 2018. The Draft Environmental Impact Statement is expected in September 2018, and the Final Environmental Impact Statement is expected in May 2019.

ADDRESSES: Electronic comments are encouraged. Electronic comments should be submitted through the comment section at https://www.fs.usda.gov/project/?project=53031. Mail comments to Humboldt-Toiyabe National Forest: Attn: Integrated Invasive Plant Treatment EIS, 1200 Franklin Way, Sparks, Nevada 89431.

FOR FURTHER INFORMATION CONTACT: For additional information concerning this project, please contact James Winfrey, Interdisciplinary Team Leader, at 775-355-5308 or ht_invasive_plant_treatment@fs.fed.us. Information about this EIS will be posted on the internet at: https://www.fs.usda.gov/project/?project=53031. This website will be used to post all public documents during the environmental review process and announce opportunities for public participation and comment.

SUPPLEMENTARY INFORMATION: Invasive plants have been identified as a major threat to the biological diversity and ecological integrity in and near the Humboldt-Toiyabe National Forest (HTNF). Invasive plants displace native plants; reduce habitat and forage for wildlife and livestock; diminish populations of threatened, endangered, and sensitive species; alter soil properties and productivity; change the intensity and frequency of wildfires; and impact recreation opportunities.

The HTNF encompasses approximately 5.6 million acres across the state of Nevada, with land in Carson, Clark, Douglas, Elko, Eureka, Humboldt, Lander, Lincoln, Lyon, Mineral, Nye, Washoe, and White Pine counties. There are approximately 28,500 acres identified as being infested with invasive, non-native, and/or State-listed noxious weeds. These invasive plant infestations have a high potential to expand on lands within and adjacent to the HTNF, degrading desired plant communities and the values provided by those communities.

Forestlands are also threatened by “potential invaders,” invasive plants that have not been found on the HTNF but are known to occur in adjacent lands, counties, or states. Infestations can be controlled and eradicated, and native vegetation can be restored, through the use of specific management practices. A clear and comprehensive integrated invasive plan management strategy would allow for the implementation of timely and effective invasive plant management and prevention for projects and programs on the HTNF. In the absence of an aggressive invasive plant management program, the number, density, and distribution of invasive plants on the forest will continue to increase.

Purpose and Need for Action

The purpose of this analysis is to update current management to provide for integrated and timely management of invasive species, now and in the future, with the goal of promoting healthy and thriving native plant communities across the HTNF. The proposal is in response to an underlying need to implement management direction as described in the Regulatory Framework section below.

The need for comprehensive and aggressive management of invasive plant species is multifaceted:

Invasive plants are diminishing the natural resource values of the forest: Forest resources are negatively impacted by existing and expanding invasive plant infestations. Invasive species are known to out-compete native plants, which can reduce productivity and biodiversity, cause habitat loss, and have economic impacts.

There must be a timely response to new infestations, new invasive plant species, and landscape-scale disturbances: On the HTNF, invasive plants are spread by use of transportation systems, livestock grazing, and off-road fire suppression activities. They are also spread by wild animals, wind, and water. Wildland fires are frequent on HTNF lands, and afterwards the burned areas typically become more densely infested with invasive plants such as cheatgrass and non-native thistles. The forest needs the flexibility to treat expanded and/or newly identified infestations in a timely manner, based on local site conditions and identified Forest priorities.

Existing and future invasive plant populations in the HTNF require active and adaptive management: Invasive plant infestations already exist throughout the HTNF, and without management they will increase in density and distribution. Active and adaptive integrated pest management is necessary to contain invasive plants within existing boundaries, reduce infestation densities, and retard the establishment of new infestations. Control efforts should be focused on infestations that can realize the greatest resource benefits: those with the highest risk of spread, those that have not become established, and those with the best likelihood of control success.

Rehabilitation and restoration of infested areas can inhibit the spread and establishment of invasive plants: Appropriate rehabilitation efforts are a critical component of a fully functional invasive plant management program. The goals of rehabilitating degraded areas may include preventing new infestations, preventing the reoccurrence of eradicated infestations, and/or reducing the density and spread of existing infestations. Post-fire rehabilitation efforts may incorporate one or more of the established control techniques outlined in the proposed action.

Federal, State, and Forest Service laws, regulation, policy and direction relating to invasive plant management must be implemented and followed: Implementing invasive species laws and policies requires aggressive invasive plant management. This analysis would identify the strategies that the HTNF would use to comply with laws and policies pertaining to invasive plant management.

Proposed Action

The HTNF proposes to implement adaptive and integrated invasive plant treatments on current and future infested areas using tools and products currently available, and those that may become available in the next 15 years. Activities would be implemented with partners at the federal, state, and local level where opportunities exist. To provide for “Early Detection Rapid Response” (EDRR), the Forest would design a plan that allows treatment of invasive plant infestations located outside of currently identified infested areas. Infestations outside of currently identified areas may include new sites that arise in the future, or sites that currently exist, but have not been identified in Forest inventories to date. The intent of EDRR is to allow timely control, so that new infestations can be treated when they are small, preventing establishment and spread, while reducing the costs and potential side effects of treatment.

Proposed control methods would be based on integrated pest management principles and methods known to be effective for each target species. They include, but are not limited to, manual mechanical techniques, such as mowing and pulling; biological control agents, such as pathogens, insects, and controlled grazing; prescribed fire; and herbicides (including aerial and ground-based application methods) that target specific invasive plant species. Restoration actions include planting, seeding, and fertilizing using a variety of equipment and methods. Control, eradication, and restoration methods could be employed alone or in combination to achieve the most effective results. Treatments over a number of years may be necessary to achieve control, eradication, and restoration goals.

Treatment methods would be based on the extent, location, type, and character of an infestation and would be implemented using project design features developed to reduce or eliminate potential adverse effects.

Restoration activities would be designed and implemented based on the conditions found in and around infested areas. Both active and passive (allowing plants on site to fill in a treated area) revegetation would be considered. Restoration techniques would be assessed and implemented in order to promote native plant communities that are resistant to infestation by invasive plants.

Lead and Cooperating Agencies

The Forest Service will be the lead federal agency in accordance with 40 Code of Federal Regulations (CFR) 1501.5(b) and is responsible for the preparation of the EIS. The Forest Service is in the process of inviting other federal, state, and local agencies to participate as cooperating agencies. At this time, these include the Bureau of Land Management, Natural Resource Conservation Service, U.S. Fish and Wildlife Service, Nevada Departments of Wildlife, Nevada Department of Agriculture and local Conservation Districts. Scoping will determine if any other cooperating agencies are needed.

Responsible Official

The responsible official for this EIS is William A. Dunkelberger, Forest Supervisor, Humboldt-Toiyabe National Forest Supervisor's Office, 1200 Franklin Way, Sparks, Nevada 89431.

Decision To Be Made

The Forest Supervisor will decide whether to treat invasive plants and conduct restoration activities on the Nevada portion of the HTNF, and if so, what methods and strategies (including adaptive management and EDRR) will be used to contain, control, or eradicate invasive plants.

Permits or Licenses Required

A permit from the State of Nevada would be required prior to use of prescribed fire. Pesticide applicators would be certified as required by the Nevada Department of Agriculture, and all other permits required by regulatory agencies would be obtained prior to implementation.

Scoping Process

This notice of intent initiates the scoping process, which guides the development of the EIS. The Forest Service will be seeking information, comments, and assistance from federal, state, and local agencies, American Indian Tribes, as well as other individuals and organizations that may be interested in, or affected by, the proposed project. Comments on the proposed project should be in writing and should be specific to the proposed action, describing as clearly and completely as possible any issues or concerns the commenter has with the proposal. Comments received, including the names and addresses of those who comment, will become part of the public record for this EIS, and will be available on request for public inspection (see 40 CFR 1501.7 and 1508.22; Forest Service Handbook 1909.15, Section 21). For full consideration, scientific articles or other items cited in support of comments should be submitted in their entirety by the commenter. Comments submitted anonymously will be accepted and considered; however, anonymous comments will not provide the Agency with the ability to provide the respondent with subsequent environmental documents.

Comments that would be most useful are those concerning developing or refining the proposed action, site specific concerns, and those concerns that can help us develop treatments that would be responsive to our goal to control, contain, or eradicate invasive plants.

It is important that reviewers provide their comments at such times and in such manner that they are useful to the agency's preparation of the EIS. Therefore, comments should be provided prior to the close of the comment period and should clearly articulate the reviewer's concerns and contentions. Public meetings are anticipated to be held following publication of the Draft Environmental Impact Statement.

Dated: January 9, 2018.
Chris French,
Associate Deputy Chief, National Forest System.

[FR Doc. 2018-04306 Filed 3-1-18; 8:45 am]

BILLING CODE 3411-15-P